DEPARTMENT OF AGRICULTURE

Natural Resources Conservation Service

[Docket No. NRCS-2015-0007]

Notice of Availability of Proposed Changes to Section I of the Louisiana Field Office Technical Guide for Public Review and Comment

AGENCY: Natural Resources Conservation Service (NRCS).

ACTION: Notice.

SUMMARY: NRCS is proposing to revise Section I of the Louisiana Field Office Technical Guide to include “Guidance for Louisiana Food Security Act Wetland Determinations including Offsite Methods” which will replace the existing “Louisiana Conventions and Procedures for Performing Wetland Delineations” (commonly referred as State Wetland Mapping Conventions).

DATES: Effective Date: This notice is effective June 9, 2015. Guidance for Louisiana Food Security Act Wetland Determinations including Offsite Methods is in final draft, subject to revision and will be utilized immediately in order to better service requests for wetland determinations for compliance with the Food Security Act of 1985 (as amended) in a timely manner.

Comment Date: Submit comments on or before July 9, 2015.

ADDRESSES: Comments should be submitted, identified by Docket Number NRCS-2015-0007, using any of the following methods:

• Federal eRulemaking Portal: http://www.regulations.gov. Follow the instructions for submitting comments.

• Mail or hand-delivery: Submit state specific comments to the Louisiana NRCS State Office, located at 3737 Government Street, Alexandria, LA 71302.

• NRCS will post all comments on http://www.regulations.gov. In general, personal information provided with comments will be posted. If your comment includes your address, phone number, email, or other personal identifying information, your comments, including personal information, may be available to the public. You may ask in your comment that your personal identifying information be withheld from public view, but this cannot be guaranteed.

FOR FURTHER INFORMATION CONTACT: Kevin D.Norton, State Conservationist. Phone: 318-473-7751

SUPPLEMENTARY INFORMATION: Guidance for Louisiana Food Security Act Wetland Determinations including Offsite Methods will be used as part of the technical documents and procedures to conduct wetland determinations on agricultural land as required by 16 U.S.C. 3822. NRCS is required by 16 U.S.C. 3862 to make available for public review and comment all proposed revisions to standards and procedures used to carry out highly erodible land and wetland provisions of the law.

All comments will be considered. If no comments are received, Guidance for Louisiana Food Security Act Wetland Determinations including Offsite Methods will be considered final.

Electronic copies of the proposed Guidance for Louisiana Food Security Act Wetland Determinations including Offsite Methods are available through http://www.regulations.gov by accessing Docket No. NRCS-2015-0007. Alternatively, copies can be downloaded or printed from the Louisiana NRCS Web site located at http://www.nrcs.usda.gov/wps/portal/nrcs/site/la/home/. Requests for paper versions or inquiries may be directed to the Louisiana State Conservationist at the contact point shown above.

Signed this 5th day of May, 2015, in Alexandria, LA.
Kevin D. Norton,
State Conservationist.

[FR Doc. 2015-14063 Filed 6-8-15; 8:45 am]

BILLING CODE 3410-16-P